DEPARTMENT OF ENERGY

Federal Energy Regulatory Commission

[Project No. 15324-000]

Scott D. Sanicki; Notice of Application Tendered for Filing With the Commission and Soliciting Additional Study Requests

Take notice that the following hydroelectric application has been filed with the Commission and is available for public inspection.

a. Type of Application: Exemption from Licensing.

b. Project No.: 15324-000.

c. Date Filed: October 2, 2023.

d. Applicant: Scott D. Sanicki.

e. Name of Project: Quiet Woods Water Wheel Project.

f. Location: On the Pocotopaug Creek, near the town of East Hampton, Middlesex County, Connecticut.

g. Filed Pursuant to: Public Utility Regulatory Policies Act of 1978, 16 U.S.C. 2705, 2708, amended by the Hydropower Regulatory Efficiency Act of 2013, Public Law 113-23, 127 Stat. 493 (2013).

h. Applicant Contact: Scott D. Sanicki, 102 Quiet Woods Road, East Hampton, CT; ssanicki@comcast.net.

i. FERC Contact: John Baummer at (202) 502-6837; or email at john.baummer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 1, 2023.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Quiet Woods Water Wheel Project (P-15324-000).

m. This application is not ready for environmental analysis at this time.

n. The proposed project would consist of: (1) a new 6-foot-diameter undershot poncelet water wheel and 3-kilowatt generator cantilevered to a 6-foot-wide, 6-foot-long, 3-foot-deep concrete support pad on the creek bank; (2) a new 350-foot-long underground transmission line connecting to a dwelling structure; and (3) appurtenant facilities. The project is estimated to generate an average of 8,800 kilowatt-hours annually.

The proposed project does not include a dam or impoundment. The applicant proposes to manually operate the project in a run-of-river mode.

o. Copies of the application may be viewed on the Commission's website at http://www.ferc.gov using the “eLibrary” link. Enter the docket number excluding the last three digits in the docket number field to access the document (P-15324). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. With this notice, we are initiating consultation with the Connecticut State Historic Preservation Officer (SHPO), as required by section 106 of the National Historic Preservation Act and the regulations of the Advisory Council on Historic Preservation, 36 CFR 800.4.

q. Procedural schedule and final amendments: The application will be processed according to the following preliminary schedule. Revisions to the schedule will be made as appropriate (e.g., if there are no deficiencies or a need for additional information, the schedule would be shortened).

Issue Deficiency Letter (if necessary) | January 2024.
Request Additional Information | January 2024.
Issue Acceptance Letter | April 2024.
Issue Scoping Document 1 for comments | May 2024.
Request Additional Information (if necessary) | July 2024.
Issue Scoping Document 2 | August 2024.
Issue Notice of Ready for Environmental Analysis | August 2024.

Dated: October 13, 2023.
Kimberly D. Bose,
Secretary.

[FR Doc. 2023-23105 Filed 10-18-23; 8:45 am]

BILLING CODE 6717-01-P